ENVIRONMENTAL PROTECTION AGENCY

[FRL-9954-45-Region 6]

Adequacy Status of the Dallas-Fort Worth, Texas Attainment Demonstration 8-Hour Ozone Motor Vehicle Emission Budgets for Transportation Conformity Purposes

AGENCY: Environmental Protection Agency (EPA).

ACTION: Notice of adequacy.

SUMMARY: The Environmental Protection Agency (EPA) is notifying the public that it has found that the motor vehicle emissions budgets (MVEBs) in the Dallas-Fort Worth, Texas (DFW) Attainment Demonstration (AD) State Implementation Plan (SIP) revision for the 2008 8-hour ozone National Ambient Air Quality Standard (NAAQS), submitted on August 5, 2016 by the Texas Commission on Environmental Quality (TCEQ) are adequate for transportation conformity purposes. As a result of EPA's finding, the DFW area must use these budgets for future conformity determinations.

DATES: These budgets are effective November 23, 2016.

FOR FURTHER INFORMATION CONTACT: The essential information in this notice will be available at EPA's conformity Website: https://www.epa.gov/state-and-local-transportation/adequacy-review-state-implementation-plan-sip-submissions-conformity. You may also contact Mr. Jeffrey Riley, State Implementation Section (6MM-AA), U.S. Environmental Protection Agency, Region 6, 1445 Ross Avenue, Dallas, Texas 75202-2733, at (214) 665-8542 or Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On August 5, 2016, we received a SIP revision from the TCEQ. This revision consisted of an AD SIP for the DFW 2008 8-hour ozone NAAQS nonattainment area. This submission established MVEBs for the DFW 2008 ozone nonattainment area for the year 2017. The MVEB is the amount of emissions allowed in the SIP for on-road motor vehicles; it establishes an emissions ceiling for the DFW area regional transportation network, used to develop the 2017 on-road motor vehicle emissions projections contained in the AD SIP. The MVEBs are provided in Table 1:

Table 1—Dallas-Fort Worth Attainment Demonstration NOX and VOC MVEBS
[Summer season tons per day]
| 2017
NOX | 130.77
VOC | 64.91

On September 7, 2016, EPA posted the revised DFW area MVEBs on EPA's Web site for the purpose of soliciting public comments, as part of the adequacy process. The comment period closed on October 6, 2016, and we received no comments.

Today's notice is simply an announcement of a finding that EPA has already made. EPA Region 6 sent a letter to TCEQ on October 17, 2016, finding that the MVEBs in the DFW AD SIP, submitted on August 5, 2016 are adequate and must be used for transportation conformity determinations in the DFW area. This finding has also been announced on EPA's conformity Web site: https://www.epa.gov/state-and-local-transportation/adequacy-review-state-implementation-plan-sip-submissions-conformity.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” See 69 FR 40004 (July 1, 2004). Please note that an adequacy review is separate from EPA's completeness review, and it should not be used to prejudge EPA's ultimate approval of the DFW 2008 8-hour ozone NAAQS AD SIP revision submittal. Even if EPA finds the budgets adequate, the DFW AD SIP revision submittal could later be disapproved.

Within 24 months from the effective date of this notice, the DFW-area transportation partners, such as the North Central Texas Council of Governments, will need to demonstrate conformity to the new MVEBs if the demonstration has not already been made, pursuant to 40 CFR 93.104(e). See 73 FR 4419 (January 24, 2008).

Authority: 42 U.S.C. 7401 et seq.

Dated: November 2, 2016.
Ron Curry,
Regional Administrator, Region 6.

[FR Doc. 2016-26957 Filed 11-7-16; 8:45 am]

BILLING CODE 6560-50-P